NEIGHBORHOOD REINVESTMENT CORPORATION

Sunshine Act Meetings

TIME AND DATE: 2 p.m., Thursday, June 26, 2025.

PLACE: via ZOOM.

STATUS: Parts of this meeting will be open to the public. The rest of the meeting will be closed to the public.

MATTERS TO BE CONSIDERED:

Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call To Order

II. Action Item: Election of Acting Comptroller Rodney Hood as Temporary Board Chair

III. Sunshine Act Approval of Executive (Closed) Session

IV. Executive Session: CEO Report

V. Executive Session: CFO Report

VI. Executive Session: General Counsel Report

VII. Executive Session: CIO Report

VIII. Executive Session: Officer Compensation Review

IX. Action Item: Approval of Meeting Minutes for March 25 Audit Committee Meeting; April 14 Special Board Meeting; April 15 Regular Board Meeting

X. Action Item: Resolutions of Recognition of Service for Former Board Members NCUA Board Member Otsuka, FRB Governor Cook, and OCC Senior Deputy Comptroller Gardineer

XI. Action Item: Election of Officers

XII. Action Item: Grants to Capital Corporations

XIII. Discussion Item: Annual Ethics Review

XIV. Discussion Item: Governance Operations Guide Annual Review

XV. Discussion Item: Election of Board Chair and Board Vice Chair

XVI. Discussion Item: Appointment of Audit Committee Members

XVII. Discussion Item: Support From CapitalOne for NWCompass and Professional Learning & Event Management Solution (PLEMS)

XVIII. Discussion Item: Management Program Background and Updates

a. 2025 Board Calendar

b. 2025 Board Agenda Planner

c. CFO Report

i. Financials (Through 3/31/25)

ii. Single Invoice Approvals $100K and Over

iii. Vendor Payments $350K and Over

iv. Exceptions

d. Programs Dashboard

e. Housing Stability Counseling Program (HSCP)

f. Strategic Plan Scorecard—FY25 Q2

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-11475 Filed 6-18-25; 4:15 pm]

BILLING CODE 7570-01-P